ENVIRONMENTAL PROTECTION AGENCY

FRL-9970-67-OGC; EPA-HQ-OGC-2017-0630]

Proposed Settlement Agreement, Clean Air Act Title V Permit Appeal

AGENCY: Environmental Protection Agency (EPA).

ACTION: Notice of Proposed Settlement Agreement; Request for Public Comment.

SUMMARY: In accordance with section 113(g) of the Clean Air Act, as amended (“CAA” or the “Act”), notice is hereby given of a proposed settlement agreement to resolve a case filed by Veolia ES Technical Solutions, L.L.C. (“Veolia”) involving EPA actions under the CAA Title V operating permit program. On February, 15, 2017, Veolia filed a petition with the Environmental Appeals Board (“EAB”) challenging the CAA Title V renewal permit issued by EPA Region 5 for the Veolia facility in Sauget, Illinois (“the Facility”) on January 18, 2017. (In re Veolia ES Technical Solutions, L.L.C., CAA Appeal No. 17-02). Under the proposed settlement agreement, among other changes to the permit, Veolia agrees to install activated carbon injection systems (“ACI systems”) on two incinerators that currently do not have controls for vapor phase mercury and EPA Region 5 will request a remand of the CAA Title V renewal permit.

DATES: Written comments on the proposed settlement agreement must be received by December 15, 2017.

ADDRESSES: Submit your comments, identified by Docket ID number EPA-HQ-OGC-2017-0630, online at www.regulations.gov (EPA's preferred method). For comments submitted at www.regulations.gov, follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: John T. Krallman, Air and Radiation Law Office (2344A), Office of General Counsel, U.S. Environmental Protection Agency, 1200 Pennsylvania Ave. NW., Washington, DC 20460; telephone: (202) 564-0904; email address: krallman.john@epa.gov.

SUPPLEMENTARY INFORMATION:

I. Additional Information About the Proposed Settlement Agreement

The proposed settlement agreement would resolve the case filed by Veolia involving EPA Region 5's actions under the CAA title V operating permit program. On February 15, 2017, Veolia filed a petition with the Environmental Appeals Board (“EAB”) challenging the CAA Title V renewal permit issued by EPA Region 5 on January 18, 2017 to Veolia's facility in Sauget, Illinois (“the Facility”).

Under the terms of the proposed settlement agreement, among other changes to the permit, Veolia agrees to install activated carbon injection systems (“ACI systems”) on two of its incinerators to control emissions of vapor phase mercury and EPA Region 5 agrees to request a voluntary remand from the EAB of the CAA Title V renewal permit issued on January 18, 2017. If this proposed settlement agreement is finalized, EPA Region 5 will put out a draft CAA Title V permit for separate public notice and comment period. The revised draft CAA Title V renewal permit, which is attached to the proposed settlement agreement, also includes improvements to Veolia's procedures for analyzing hazardous wastes burned in the incinerators. If the final CAA Title V renewal permit for the Facility only contains changes from the revised draft that reflect the inclusion of any final preconstruction permit that has been issued by the Illinois Environmental Protection Agency for the ACI systems or clerical changes from the draft CAA Title V permit attached to the proposed settlement agreement, Veolia agrees that it will not file a petition for review with the EAB or otherwise challenge the final CAA Title V renewal permit for the Facility. The proposed settlement agreement provides that this public notice shall not serve as the notice and comment period for any subsequent draft CAA Title V renewal permit for the Facility. The proposed settlement agreement also provides that nothing in the settlement agreement limits the discretion of EPA Region 5 to make changes between the draft CAA Title V renewal permit and the final CAA Title V renewal permit based on public notice and comment or information contained in the permit record; nor does the settlement agreement limit or modify any discretion afforded EPA by the Act or by general principles of administrative law in taking those actions. See the proposed settlement agreement for specific details.

For a period of thirty (30) days following the date of publication of this notice, the Agency will accept written comments relating to the proposed settlement agreement from persons who are not named as parties or intervenors to the litigation in question. EPA may withdraw or withhold consent to the proposed settlement agreement if the comments disclose facts or considerations that indicate that such consent is inappropriate, improper, inadequate, or inconsistent with the requirements of the Act.

II. Additional Information About Commenting on the Proposed Settlement Agreement

A. How can I get a copy of the settlement agreement?

The official public docket for this action (identified by Docket ID No. EPA-HQ-OGC-2017-0630) contains a copy of the proposed settlement agreement, including the draft CAA Title V renewal permit. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use www.regulations.gov to submit or view public comments, access the index listing of the contents of the official public docket, and access those documents in the public docket that are available electronically. Once in the system, key in the appropriate docket identification number then select “search.”

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these such comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: November 1, 2017.
Gautam Srinivasan,
Acting Associate General Counsel.

[FR Doc. 2017-24723 Filed 11-14-17; 8:45 am]

BILLING CODE 6560-50-P